ENVIRONMENTAL PROTECTION AGENCY

40 CFR Parts 51, 72, 75, and 96

[OAR-2003-0053; FRL-7663-9]

Public Hearing for the Supplemental Proposal for the Rule To Reduce Interstate Transport of Fine Particulate Matter and Ozone (Clean Air Interstate Rule)

AGENCY: Environmental Protection Agency (EPA).

ACTION: Announcement of public hearing.

SUMMARY: The EPA is announcing a public hearing for the “Supplemental Proposal for the Rule To Reduce Interstate Transport of Fine Particulate Matter and Ozone (Clean Air Interstate Rule).” The hearing will be held on June 3, 2004, in Alexandria, Virginia. For convenience, we refer to the supplemental proposal as the Supplemental Proposal, and the Clean Air Interstate Rule as the CAIR.

On January 30, 2004, the EPA proposed a rule that we now term the Clean Air Interstate Rule (CAIR). This proposal would require 29 States in the eastern part of the country and the District of Columbia to reduce emissions of sulfur dioxide (SO2) and nitrogen oxides (NOX) that contribute significantly to fine particulate matter and 8-hour ozone nonattainment problems in downwind States. The Supplemental Proposal includes proposed rule language; proposed State reporting requirements; proposed State implementation plan (SIP) approvability criteria; a proposed model cap-and-trade rule; a discussion of the interaction between this proposal as well as both the title IV acid rain requirements and the NOX SIP Call; and a proposed determination that a State's compliance with the CAIR through imposition of the emissions reductions requirements on the State's electric generating units (EGUs) would exempt those sources from any applicable requirements of section 169A to implement Best Available Retrofit Technology.

DATES: The public hearing for the supplemental proposal for the Clear Air Interstate Rule will be held on June 3, 2004. Please refer to SUPPLEMENTARY INFORMATION for additional information on the public hearing.

ADDRESSES: The hearing will be held at the Holiday Inn Select, Old Town Alexandria, 480 King Street, Alexandria, Virginia 22314, phone 703-549-6080.

Written comments on this Supplemental Proposal may also be submitted to EPA electronically, by mail, by facsimile, or through hand delivery/courier. Please refer to the Supplemental Proposal for the addresses and detailed instructions.

Documents relevant to this action are available for public inspection at the EPA Docket Center, located at 1301 Constitution Avenue, NW., Room B102, Washington, DC between 8:30 a.m. and 4:30 p.m., Monday through Friday, excluding legal holidays. A reasonable fee may be charged for copying. Documents are also available through EPA's electronic Docket system at http://www.epa.gov/edocket.

The EPA Web site for this rulemaking, which will include information about the public hearing announced today, is at http://www.epa.gov/interstateairquality.

FOR FURTHER INFORMATION CONTACT: If you would like to speak at the public hearing or have questions concerning it, please contact Jo Ann Allman at the address given below under SUPPLEMENTARY INFORMATION. Questions concerning the proposed CAIR should be addressed to Scott Mathias, U.S. EPA, Office of Air Quality Planning and Standards, Air Quality Strategies and Standards Division (C539-01), Research Triangle Park, NC 27711, telephone number (919) 541-5310, e-mail at mathias.scott@epa.gov.

SUPPLEMENTARY INFORMATION:

Public Hearing

The public hearing will provide interested parties the opportunity to present data, views, or arguments concerning issues raised in today's proposed rule. The EPA may ask clarifying questions during the oral presentations, but will not respond to the presentations at that time. Written statements and supporting information submitted during the comment period will be considered with the same weight as any oral comments and supporting information presented at the public hearing. Written comments must be postmarked by the last day of the comment period, as specified in the proposal.

The public hearing for the “Supplemental Proposal for the Rule To Reduce Interstate Transport of Fine Particulate Matter and Ozone (Clean Air Interstate Rule)” will be held on June 3, 2004, in Alexandria, Virginia. The hearing will begin at 9 and end at 5. The meeting facility and phone number is provided above under ADDRESSES.

If you would like to present oral testimony at the hearing, please notify Jo Ann Allman, U.S. EPA, Office of Air Quality Planning and Standards, Air Quality Strategies and Standards Division, C539-02, Research Triangle Park, NC 27711, telephone (919) 541-1815, e-mail allman.joann@epa.gov no later than May 31, 2004. She will provide you with a specific time to speak. Oral testimony will be limited to 5 minutes for each commenter.

We will be able to provide equipment for commenters to show overhead slides or make computerized slide presentations only if we receive requests in advance. Commenters should notify Jo Ann Allman if they will need specific equipment. The EPA encourages commenters to provide written versions of their oral testimonies either electronically on computer disk or CD ROM or in paper copy.

The hearing schedule, including the speaker list, will be posted on EPA's Web pages for the proposal at http://www.epa.gov/interstateairquality prior to the hearing. A verbatim transcript of the hearing and written statements will be included in the rulemaking docket.

The EPA will hold a separate public hearing for a related proposal, “Regional Haze Regulations and Guidelines for Best Available Retrofit Technology (BART) Determinations,” at the same facility on the following day, June 4, 2004. The EPA is holding the hearings on consecutive days to facilitate travel plans for persons wishing to attend both hearings.

How Can I Obtain Copies Of This Document and Other Related Information?

The Supplemental Proposal for the CAIR is available on EPA's Web site for the CAIR rulemaking at http://www.epa.gov/interstateairquality and will be published shortly in the Federal Register.

The EPA has established the official public docket for the CAIR under Docket ID No. OAR-2003-0053. Please refer to the proposal for detailed information on accessing information related to the proposal.

Dated: May 13, 2004.
J.E. Noonan,
Acting Director, Office of Air Quality Planning and Standards.

[FR Doc. 04-11305 Filed 5-18-04; 8:45 am]

BILLING CODE 6560-50-P